NUCLEAR REGULATORY COMMISSION

Sunshine Federal Register Notice

AGENCY HOLDING THE MEETINGS: Nuclear Regulatory Commission, [NRC-2012-0002].

DATE: Week of January 30, 2012.

PLACE: Commissioners' Conference Room, 11555 Rockville Pike, Rockville, Maryland.

STATUS: Public and Closed.

ADDITIONAL ITEMS TO BE CONSIDERED: Week of January 30, 2012

Monday, January 30, 2012—

1:25 p.m. Affirmation Session (Public Meeting) (Tentative)

a. Final Rule: Requirements for Distribution of Byproduct Material, 10 CFR parts 30, 31, 32, 40, and 70 (RIN 3150-AH91) (Tentative)

b. Final Rule: Advance Notification to Native American Tribes of Transport of Certain Types of Nuclear Waste (RIN 3150-AG41) (Tentative)

* The schedule for Commission meetings is subject to change on short notice. To verify the status of meetings, call (recording)—(301) 415-1292. Contact person for more information: Rochelle Bavol, (301) 415-1651.

The NRC Commission Meeting Schedule can be found on the Internet at: http://www.nrc.gov/about-nrc/policy-making/schedule.html.

The NRC provides reasonable accommodation to individuals with disabilities where appropriate. If you need a reasonable accommodation to participate in these public meetings, or need this meeting notice or the transcript or other information from the public meetings in another format (e.g. braille, large print), please notify Bill Dosch, Chief, Work Life and Benefits Branch, at (301) 415-6200, TDD: (301) 415-2100, or by email at william.dosch@nrc.gov. Determinations on requests for reasonable accommodation will be made on a case-by-case basis.

This notice is distributed electronically to subscribers. If you no longer wish to receive it, or would like to be added to the distribution, please contact the Office of the Secretary, Washington, DC 20555 (301) 415-1969, or send an email to darlene.wright@nrc.gov.

Dated: January 20, 2012.
Rochelle C. Bavol,
Policy Coordinator, Office of the Secretary.

[FR Doc. 2012-1600 Filed 1-23-12; 4:15 pm]

BILLING CODE 7590-01-P